DEPARTMENT OF VETERANS AFFAIRS

Funding Availability Under Supportive Services for Veteran Families Program

AGENCY: Veterans Health Administration, Department of Veterans Affairs.

ACTION: Notice of Fund Availability (NOFA): Amendment.

SUMMARY: This amendment to the February 3, 2015 NOFA allows grantees with existing 3-year, non-renewable awards to apply for funding (these grants were previously awarded to priority 1 applicants under a Supportive Services for Veterans Families (SSVF) NOFA published on January 10, 2014). Under the current February 3, 2015 NOFA, VA is offering up to $300 million to current SSVF grantees seeking funding for their existing, renewable grants. This amendment will expand the pool of potential applicants to include current SSVF grantees with 3-year, non-renewable grants. The overall level of funding available through the amended NOFA remains at $300 million.

Increasing the rate of placement of homeless Veteran households may be accomplished by accelerating SSVF program implementation by funded grantees. VA seeks to encourage such activity and recognizes that one method of enhancing placement activity is to shorten grant terms from 3 years to 2 years, utilizing the grantee's total 3-year award in a shorter, 2-year period.

Announcement Type: Amendment.

Funding Opportunity Number: VA-SSVF-021015.

Catalog of Federal Domestic Assistance Number: 64.033, VA Supportive Services for Veteran Families Program.

DATES: Applications made in response to this amendment are due April 10, 2015.

FOR FURTHER INFORMATION CONTACT: Mr. John Kuhn, Supportive Services for Veteran Families Program Office, National Center on Homelessness Among Veterans, 4100 Chester Avenue, Suite 201, Philadelphia, PA 19104; (877) 737-0111 (this is a toll-free number); SSVF@va.gov.

For a Copy of the Application Package: Copies of the application can be downloaded directly from the SSVF Program Web site at: www.va.gov/homeless/ssvf.asp. Questions should be referred to the SSVF Program Office via phone at (877) 737-0111 (toll-free number) or via email at SSVF@va.gov. For detailed SSVF Program information and requirements, see Part 62 of Title 38, Code of Federal Regulations (38 CFR part 62).

SUPPLEMENTARY INFORMATION:

I. Funding

Existing 3-year, non-renewable grantees are eligible for funding equal to 33 percent of their total current award. These awards would replace funds used to accelerate the placement of homeless Veteran households in years 1 and 2 of the current 3-year, non-renewable grant term. These funds would be made available to grantees who compressed their 3-year award into 2-years, allowing them to operate in the third year of their grant term as planned. Awards made to applicants responding to the NOFA and the amended NOFA will be scored competitively with each group of applicants given equal priority.

II. Allocation of Funds

Funding will be awarded under this NOFA to existing grantees for a 1-year grant term, to be implemented in the final year of the 3-year grant term that currently exists, in order to replace funding accelerated into years 1 and 2 of their 3-year grant term. Applicants must apply as renewal grantees, using the renewal application form. Existing grantees interested in applying under both the original NOFA and the amended NOFA must submit two separate applications. Only grantees with 3-year, non-renewable grants are eligible to apply in response to the amended portion of this NOFA. Supportive services grants awarded under the amended portion of this NOFA must also meet the following criteria:

(1) Each funding request cannot exceed 33 percent of the existing 3-year, non-renewable award.

(2) Applicants must have spent no less 46 percent of their total grant award no later than August 30, 2015.

(3) Applicants must exit no less than 46 percent or more of their total household target (indicated in their grant agreement) by August 30, 2015.

(4) 85 percent or more of all exits will be the rapid re-housing of Category 2 and 3 (literally homeless) Veteran households. Category 1 exits cannot exceed 15 percent of placement activity.

Signing Authority

The Secretary of Veterans Affairs, or designee, approved this document and authorized the undersigned to sign and submit the document to the Office of the Federal Register for publication electronically as an official document of the Department of Veterans Affairs.

Signing Authority

The Secretary of Veterans Affairs, or designee, approved this document and authorized the undersigned to sign and submit the document to the Office of the Federal Register for publication electronically as an official document of the Department of Veterans Affairs. Jose D. Riojas, Chief of Staff, approved this document on February 25, 2015 for publication.

Approved: March 5, 2015.

Dated: March 11, 2015.
Rebecca Schiller,
Advisory Committee Management Officer.

[FR Doc. 2015-05941 Filed 3-16-15; 8:45 am]

BILLING CODE 8320-01-P